FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans num | ET req status | Party name
22-Sep-03 | 20030956 | G | Helen of Troy Limited.
|  | G | Unilever N.V.
|  | G | Conopco, Inc.
| 20030965 | G | Lindsay Goldberg & Bessemer LP.
|  | G | Jonathan Frankel.
|  | G | Certified Merchant Services, Ltd.
24-Sept-03 | 20030947 | G | Anheuser-Busch Companies, Inc.
|  | G | Robert and Beverly Lewis.
|  | G | FBC Industries.
| 20030968 | G | Informatica Corporation.
|  | G | Striva Corporation.
|  | G | Striva Corporation.
26-Sep-03 | 20030942 | G | Telenor ASA.
|  | G | Golden Telecom, Inc.
|  | G | Golden Telecom, Inc.
| 20030953 | Y | The Seminole Group, L.P.
|  | Y | The Williams Companies, Inc.
|  | Y | Gas Supply, L.L.C.
|  | Y | Williams Midstream Marketing and Risk Management L.L.C.
|  | Y | Williams Power Company, Inc.
| 20030960 | Y | The Berwind Company LLC.
|  | Y | Whitehall Associates, L.P.
|  | Y | Elmer's Holdings, Inc.
| 20030978 | G | American Capital Strategies, Ltd.
|  | G | ICN Pharmaceuticals, Inc.
|  | G | ICN Biomedicals, Inc.
| 20030980 | G | Lone Star Fund IV (U.S.), L.P.
|  | G | Korea Exchange Bank.
|  | G | Korea Exchange Bank.
29-SEP-03 | 20030944 | G | Fritz Gerber.
|  | G | IGEN International, Inc.
|  | G | IGEN International, Inc.
| 20030951 | G | Mayne Group Limited.
|  | G | Abbott Laboratories.
|  | G | Abbott Laboratories.
| 20030973 | G | Mark Cuban.
|  | G | OCM Opportunities Fund II, L.P.
|  | G | Silver Holdco Inc.
| 20030977 | G | Todd Wagner.
|  | G | OCM Opportunities Fund II, L.P.
|  | G | Silver Holdco Inc.
| 20030984 | G | Hillenbrand Industries, Inc.
|  | G | Advanced Respiratory, Inc.
|  | G | Advanced Respiratory, Inc.
30-SEP-03 | 20030830 | S | Cinram International Inc.
|  | S | AOL Time Warner Inc.
|  | S | WEA Manufacturing Inc.
|  | S | Ivy Hill Corporation.
|  | S | Warner Music Manufacturing Europe GmbH.
|  | S | Warner Music GM Merchandising Inc.
|  | S | Giant Merchandising.
| 20030950 | G | Applied Micro Circuits Corporation.
|  | G | JNI Corporation.
|  | G | JNI Corporation.
| 20030976 | G | Reservoir.
|  | G | Exelon Corporation.
|  | G | Exelon Corporation.
01-OCT-03 | 20030981 | G | Health Management Associates, Inc.
|  | G | Tenet Healthcare Corporation.
|  | G | National Medical Hospital of Tullahoma, Inc.
|  | G | Three Rivers Healthcare, Inc.
|  | G | Tenet Lebanon Surgery Center, LLC.
|  | G | Health Point Physician Hospital Organization, Inc.
|  | G | S.C. Management, Inc.
|  | G | National Medical Hospital of Wilson County, Inc.
| 20030987 | G | Bain Capital Fund VII, L.P.
|  | G | Keystone Automotive Operations, Inc.
|  | G | Keystone Automotive Operations, Inc.
02-OCT-03 | 20030985 | G | OGE Energy Corp.
|  | G | NRG Energy, Inc.
|  | G | NRG McLain LLC.
| 20030989 | G | Lennar Corporation.
|  | G | Newhall Land and Farming Company.
|  | G | Valencia Water Company.
| 20030990 | G | MFA Limited Partnership.
|  | G | Newhall Land and Farming Company.
|  | G | Valencia Water Company.
| 20030993 | G | Blackstone/Neptune Acquisition Company L.L.C.
|  | G | Suez.
|  | G | Ondeo Nalco Company.
03-OCT-03 | 20030936 | G | Alcan Inc.
|  | G | Nevamar Holdings, LLC.
|  | G | Nevamar Holdings, LLC.
| 20031009 | G | Silver Lake Partners, L.P.
|  | G | Gartner, Inc.
|  | G | Garnter, Inc.

FOR FURTHER INFORMATION CONTACT: Sandra M. Peay, Contact Representative or Renee Hallman, Legal Technician, Federal Trade Commission, Premerger Notification Office, Bureau of Competition, Room H-303, Washington, DC 20580, (202) 326-3100.

By Direction of the Commission.
Donald S. Clark,
Secretary.

[FR Doc. 03-26751 Filed 10-22-03; 8:45 am]

BILLING CODE 6750-01-M